DEPARTMENT OF TRANSPORTATION

Federal Railroad Administration

[Docket Numbers LI-96-2 and FRA-1999-5894]

Canadian National Railroad, Canadian Pacific Railway; Public Hearing

The Canadian National Railroad and the Canadian Pacific Railway have independently petitioned the Federal Railroad Administration (FRA) seeking a permanent waiver of compliance with the Locomotive Safety Standards, Title 49, Code of Federal Regulations (CFR), Parts 229.27(a) and 229.29(a) concerning the time interval requirements of the periodic cleaning, repairing and testing of locomotive air brake components for all of their locomotives operating in the United States equipped with 26L type brake equipment.

This proceeding is identified as Canadian National Railroad, Docket LI-96-2, and Canadian Pacific Railway, Docket FRA-1999-5894. FRA issued public notices seeking comments of interested parties and conducted field investigations in this matter. After examining the carriers' proposals, letters of protest, and field reports, FRA has determined that a public hearing is necessary before a final decision is made on these proposals.

Accordingly, a public hearing is hereby set for 9:00 a.m. on Wednesday, April 12, 2000, in Room 2230, Nassif building, 400 Seventh St. S.W., Washington, D.C. 20590. Interested parties are invited to present oral statements at this hearing. The hearing will be informal and will be conducted in accordance with Rule 25 of the FRA Rules of Practice (49 CFR Part 211.25) by a representative designated by FRA. The hearing will be a non-adversarial proceeding; therefore, there will be no cross-examination of persons presenting statements. The FRA representative will make an opening statement outlining the scope of the hearing. After all initial statements have been completed, those persons wishing to make a brief rebuttal will be given the opportunity to do so in the same order in which initial statements were made. Additional procedures, if necessary for the conduct of the hearing, will be announced at the hearing.

Issued in Washington, D.C. on March 8, 2000.
Grady C. Cothen, Jr.,
Deputy Associate Administrator for Safety Standards and Program Development.

[FR Doc. 00-6071 Filed 3-10-00; 8:45 am]

BILLING CODE 4910-06-U